FEDERAL MARITIME COMMISSION

Sunshine Act Meeting

AGENCY HOLDING THE MEETING: Federal Maritime Commission.

TIME AND DATE: September 8, 2011—10 a.m.

PLACE: 800 North Capitol Street, NW., First Floor Hearing Room, Washington, DC.

STATUS: A portion of the meeting will be in Open Session and the remainder of the meeting will be in Closed Session.

Matters To Be Considered

Open

1. Staff Briefing and Recommendation Concerning Draft Proposed Rule Revising Passenger Vessel Financial Responsibility Requirements, 46 CFR part 540, and Form FMC-131.

2. Staff Recommendation and Discussion Concerning Proposed Modification of 46 CFR 530.8(c)(2) for Index-based Service Contracts.

Closed

1. Staff Update and Discussion of PierPass Traffic Mitigation Fee.

2. Staff Briefing and Discussion Concerning Slow Steaming and Bunker Fuel Surcharges.

CONTACT PERSON FOR MORE INFORMATION: Karen V. Gregory, Secretary, (202) 523-5725.

Karen V. Gregory,
Secretary.

[FR Doc. 2011-22733 Filed 8-31-11; 4:15 pm]

BILLING CODE 6730-01-P